DEPARTMENT OF JUSTICE

Antitrust Division

Notice Pursuant to the National Cooperative Research and Production Act of 1993—North American Crossbow Federation

Notice is hereby given that, on May 22, 2017, pursuant to Section 6(a) of the National Cooperative Research and Production Act of 1993, 15 U.S.C. 4301 et seq. (“the Act”), the North American Crossbow Federation (“NACF”) has filed written notifications simultaneously with the Attorney General and the Federal Trade Commission disclosing (1) the name and principal place of business of the standards development organization and (2) the nature and scope of its standards development activities. The notifications were filed for the purpose of extending the Act's provisions limiting the recovery of antitrust plaintiffs to actual damages under specified circumstances. Pursuant to Section (b) of the Act, the name and principal place of business of the standards development organization is: North American Crossbow Federation, Suffield, Ohio. The nature and scope of NACF's standards developments activities are: The development of one or more voluntary standards that provide the crossbow designer and manufacturer with recommendations for test procedures to evaluate the safety and performance of crossbows.

Patricia A. Brink,
Director of Civil Enforcement, Antitrust Division.

[FR Doc. 2017-13557 Filed 6-27-17; 8:45 am]

BILLING CODE P